DEPARTMENT OF AGRICULTURE

Rural Housing Service

Notice of Availability of Funds, Multi-Family Housing, Single Family Housing

AGENCY: Rural Housing Service, USDA.

ACTION: Notice; correction.

SUMMARY: The Rural Housing Service published a document in the Federal Register on March 28, 2008, announcing the availability of housing funds for fiscal year 2008. The document contained incorrect percentage allocations under the heading for Single Family Housing (SFH).

FOR FURTHER INFORMATION CONTACT: Martha E. Burton, Program Analyst, Program Support Staff, Policy Support Branch, USDA, Rural Development, STOP 0761, Room 6900, 1400 Independence Avenue, SW., Washington, DC 20250-0781. Telephone: 202-720-9651 (this is not a toll free number) or (800) 877-8339 (TDD-Federal Information Relay Service) or via e-mail at martha.burton@wdc.usda.gov.

Correction: In the Federal Register of March 28, 2008, in FR Doc. E8-6332, on page 16628, in the chart titled “Information on Basic Formula Criteria, Data Source and Weight, Administrative Allocation, Pooling of Funds, and Availability of the Allocation,” correct item No. 4 under section 502 Direct RH Loans and section 504 Loans and Grants: a. First quarter to read 50 percent; b. second quarter to read 75 percent; and c. third quarter to read 100 percent.

Dated: April 18, 2008.
Peter D. Morgan,
Acting Administrator, Rural Housing Service.

[FR Doc. E8-9484 Filed 4-29-08; 8:45 am]

BILLING CODE 3410-XV-P